DEPARTMENT OF COMMERCE

National Oceanic and Atmospheric Administration

RIN: 0648-XG05

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene a public meeting of the Ad Hoc Recreational Red Snapper Advisory Panel (AP).

DATES: The meeting will convene at 9 a.m. on Tuesday, March 25, 2008 and conclude no later than 5 p.m. on Wednesday, March 26, 2008.

ADDRESSES: This meeting will be held at the Renaissance Riverview Plaza Hotel, 64 S. Water St., Mobile, AL 36602; telephone: (251) 438-4000.

Council address: Gulf of Mexico Fishery Management Council, 2203 North Lois Avenue, Suite 1100, Tampa, FL 33607.

FOR FURTHER INFORMATION CONTACT: Steven Atran, Population Dynamics Statistician; Gulf of Mexico Fishery Management Council; telephone: (813) 348-1630.

SUPPLEMENTARY INFORMATION: At this meeting, the AP will prioritize the goals and objectives for the recreational red snapper fishery that were developed in earlier meetings as well as the list of ideas for managing the recreational red snapper fishery that was previously developed. The AP will select ideas from its list for further development, and will begin the initial work of developing those ideas into possible management action. The AP will also discuss the possible formation of working groups for the task of developing discussion papers on the ideas to be developed. In addition, the AP will receive several presentations providing an overview on marine protected areas, a review of party boat and charter boat catch data, a discussion of educational materials on proper venting and dehooking, and clarification on referendum requirements pertaining to possible changes in the red snapper allocation.

Although other issues not on the agenda may come before the panel for discussion, in accordance with the Magnuson-Stevens Fishery Conservation and Management Act, those issues may not be the subject of formal panel action during this meeting. Panel action will be restricted to those issues specifically identified in the agenda listed as available by this notice.

A copy of the agenda can be obtained by calling 813-348-1630.

Special Accommodations

This meeting is physically accessible to people with disabilities. Requests for sign language interpretation or other auxiliary aids should be directed to Tina Trezza at the Council (see ADDRESSES) at least 5 working days prior to the meeting.

Dated: February 29, 2008.
Tracey L. Thompson,
Acting Director, Office of Sustainable Fisheries, National Marine Fisheries Service.

[FR Doc. E8-4181 Filed 3-4-08; 8:45 am]

BILLING CODE 3510-22-S